DEPARTMENT OF HEALTH AND HUMAN SERVICES

Food and Drug Administration

21 CFR Part 522

Implantation or Injectable Dosage Form New Animal Drugs; Penicillin G Procaine Aqueous Suspension

AGENCY: Food and Drug Administration, HHS.

ACTION: Final rule.

SUMMARY: The Food and Drug Administration (FDA) is amending the animal drug regulations to reflect approval of a supplemental new animal drug application (NADA) filed by IVX Animal Health, Inc. The supplemental NADA provides for changing scientific nomenclature for a swine pathogen on labeling for penicillin G procaine aqueous suspension.

DATES: This rule is effective March 17, 2008.

FOR FURTHER INFORMATION CONTACT: Cindy L. Burnsteel, Center for Veterinary Medicine (HFV-130), Food and Drug Administration, 7500 Standish Pl., Rockville, MD 20855, 240-276-8341, e-mail: cindy.burnsteel@fda.hhs.gov.

SUPPLEMENTARY INFORMATION: IVX Animal Health, Inc., 3915 South 48th Street Ter., St. Joseph, MO 64503, filed a supplement to NADA 65-110 for PEN-G MAX (penicillin G procaine) Aqueous Suspension used for the treatment of animal diseases associated with several bacterial pathogens. The supplemental NADA provides for changing a pathogen name from Erysipelothrix insidiosato Erysipelothrix rhusiopathiae on product labeling. The supplemental NADA is approved as of February 12, 2008, and the regulations are amended in 21 CFR 522.1696b to reflect the approval.

Approval of this supplemental NADA did not require review of additional safety or effectiveness data or information. Therefore, a freedom of information summary is not required.

The agency has determined under 21 CFR 25.33(a)(1) that this action is of a type that does not individually or cumulatively have a significant effect on the human environment. Therefore, neither an environmental assessment nor an environmental impact statement is required.

This rule does not meet the definition of “rule” in 5 U.S.C. 804(3)(A) because it is a rule of “particular applicability.” Therefore, it is not subject to the congressional review requirements in 5 U.S.C. 801-808.

List of Subjects in 21 CFR Part 522

Animal drugs.

Therefore, under the Federal Food, Drug, and Cosmetic Act and under authority delegated to the Commissioner of Food and Drugs and redelegated to the Center for Veterinary Medicine, 21 CFR part 522 is amended as follows:

PART 522—IMPLANTATION OR INJECTABLE DOSAGE FORM NEW ANIMAL DRUGS

1. The authority citation for 21 CFR part 522 continues to read as follows:

Authority: 21 U.S.C. 360b.

§ 522.1696b [Amended]

2. In § 522.1696b, in paragraph (d)(2)(ii), remove “Erysipelothrix insidiosa” and add in its place “Erysipelothrix rhusiopathiae”.

Dated: March 6, 2008.
Bernadette Dunham,
Director, Center for Veterinary Medicine.

[FR Doc. E8-5217 Filed 3-14-08; 8:45 am]

BILLING CODE 4160-01-S